DEPARTMENT OF THE TREASURY

Privacy Act of 1974; System of Records

AGENCY: Department of the Treasury.

ACTION: Notice of a modified system of records.

SUMMARY: In accordance with the Privacy Act of 1974, the Department of the Treasury (“Treasury” or the “Department”), proposes to modify a current Treasury system of records titled, “Department of the Treasury, .017—Correspondence, Contact Information, and Meeting Records—Treasury”, by expanding the title, purpose, and categories of records in this system of records, along with new routine uses.

DATES: Submit comments on or before December 4, 2023. The new and/or significantly modified routine uses will be applicable on December 4, 2023. The new routine uses will not be applicable should Treasury receive comments and determines that changes to the system of records notice are necessary.

ADDRESSES: Comments may be submitted to the Federal eRulemaking Portal electronically at http://www.regulations.gov. Comments can also be sent to the Deputy Assistant Secretary for Privacy, Transparency, and Records, Department of the Treasury, 1500 Pennsylvania Avenue NW, Washington, DC 20220, Attention: Revisions to Privacy Act Systems of Records. All comments received, including attachments and other supporting documents, are part of the public record and subject to public disclosure. All comments received will be posted without change to www.regulations.gov, including any personal information provided. You should submit only information that you wish to make publicly available.

FOR FURTHER INFORMATION CONTACT: For general questions and questions regarding privacy issues, please contact: Ryan Law, Deputy Assistant Secretary for Privacy, Transparency, and Records (202-622-5710), Department of the Treasury, 1500 Pennsylvania Avenue NW, Washington, DC 20220.

SUPPLEMENTARY INFORMATION: In accordance with the Privacy Act of 1974, 5 U.S.C. 552a, the Department of the Treasury proposes to modify a current Treasury system of records titled, “Department of the Treasury, .017—Correspondence, Contact Information, and Meeting Records—Treasury.”

The systems are maintained for the purpose of mailing informational literature or responses to those who request it; maintaining lists of individuals who attend Treasury sponsored events, conferences, work activities, or events in which Treasury or one of its bureaus or offices participated, including meetings or conferences; and for other purposes for which mailing or contact lists may be created.

This notice modification is an expansion of the title and purpose of this system of records. As identified in sections below, the categories of records in the system have been updated to include records related to meetings, consolidation of record types, and new routine uses related to breaches of this system of records.

Treasury has provided a report of this system of records to the Committee on Oversight and Government Reform of the House of Representatives, the Committee on Homeland Security and Governmental Affairs of the Senate, and the Office of Management and Budget (OMB), pursuant to 5 U.S.C. 552a(r) and OMB Circular A-108, “Federal Agency Responsibilities for Review, Reporting, and Publication under the Privacy Act,” dated December 23, 2016.

Ryan Law,
Deputy Assistant Secretary for Privacy, Transparency, and Records.

SYSTEM NAME AND NUMBER:

Department of the Treasury, .017—Correspondence, Contact Information, and Meeting Records—Treasury

SECURITY CLASSIFICATION:

Unclassified.

SYSTEM LOCATION:

The records are located in Treasury bureaus and offices, both in Washington, DC and at field locations as follows:

(1) Departmental Offices: 1500 Pennsylvania Ave. NW, Washington, DC 20220;

(2) Alcohol and Tobacco Tax and Trade Bureau: 1310 G St. NW, Washington, DC 20220.

(3) Office of the Comptroller of the Currency: Constitution Center, 400 Seventh St. SW, Washington, DC 20024;

(4) Fiscal Service: Liberty Center Building, 401 14th St. SW, Washington, DC 20227;

(5) Internal Revenue Service: 1111 Constitution Ave. NW, Washington, DC 20224;

(6) United States Mint: 801 Ninth St. NW, Washington, DC 20220;

(7) Bureau of Engraving and Printing: Eastern Currency Facility, 14th and C Streets SW, Washington, DC 20228 and Western Currency Facility, 9000 Blue Mound Rd., Fort Worth, TX 76131;

(8) Financial Crimes Enforcement Network: Vienna, VA 22183;

(9) Special Inspector General for the Troubled Asset Relief Program (SIGTARP): 1801 L St. NW, Washington, DC 20220;

(10) Office of Inspector General: 740 15th St. NW, Washington, DC 20220;

(11) Office of the Treasury Inspector General for Tax Administration: 1125 15th St. NW, Suite 700A, Washington, DC 20005; and

(12) Financial Stability Oversight Council (FSOC): 1500 Pennsylvania Ave. NW, Washington, DC 20220.

SYSTEM MANAGER(S):

Deputy Assistant Secretary, Office of Privacy, Transparency, and Records, 1500 Pennsylvania Avenue NW, Washington, DC 20220.

AUTHORITY FOR MAINTENANCE OF THE SYSTEM:

5 U.S.C. 301.

PURPOSE(S) OF THE SYSTEM:

The systems are maintained to mail informational literature or responses to those who request it; maintain lists and other information about individuals who attend or present at Treasury sponsored events, conferences, work meetings and other activities, or events in which Treasury participates; maintain lists and credentials of individuals who Treasury may consult professionally in furtherance of its mission; maintain records related to meetings, including video/audio recordings, transcripts, and for other purposes for which mailing, correspondence, contact lists, or meeting records may be created.

CATEGORIES OF INDIVIDUALS COVERED BY THE SYSTEM:

• Individuals who serve on Treasury boards and committees;

• Third parties who identify potential contacts or who provide information Treasury uses to determine an individual's inclusion on a mailing or contact list;

• Individuals who provide contact information, or otherwise consent to having their contact information used, for facilitating communication with Treasury, including but not limited to, members of the public, government officials, representatives of industry, media, non-profits, academia, and others who express an interest in Treasury-related programs and activities;

• Individuals who request information or inclusion on mailing lists for information or updates from Treasury or one of its bureaus or offices, concerning specific issues or topics;

• Treasury employees, contractors, grantees, fiscal agents, financial agents, interns, and detailees, members of the public, government officials, and representatives of industry, media, non-profits, academia, and others, paid or non-paid, attending or presenting at a Treasury sponsored event, work activity, or an event in which Treasury participated, including meetings, events, or conferences;

• Emergency contact information for the individual point-of-contact for organizations in the event that individual suffers an injury on Treasury premises;

• Alternative points-of-contact information provided by individuals or organizations included in a mailing or contact list; and

• Individuals who voluntarily join a Treasury-owned and operated web portal for collaboration purposes.

CATEGORIES OF RECORDS IN THE SYSTEM:

○ Name (including preferred name);

○ Business or organization name;

○ Business or organization type;

○ Business mailing address;

○ Job or functional title or business affiliation;

○ Business/personal address;

○ Business/personal phone number(s);

○ Business/personal mobile phone/fax number(s);

○ Pager number;

○ Video or audio recordings;

○ Meeting summaries/transcripts;

○ Meeting or event attendance or sign in sheets;

○ Business/personal electronic mail (Email) addresses;

○ Personal or other alternative contact information provided by individuals while on travel or otherwise away from the office or home;

○ Assistant or point of contact's name, title, or other contact information;

○ Information related to meetings, including:

• Preferred contact method(s) and contact rules (any specific rules to be followed when considering contacting an individual);

• Communications between Treasury employees and members of the public, Federal, State and local government officials, and representatives of industry, media, non-profits, and academia;

• General descriptions of particular topics or subjects of interest as related to individuals or organizations who communicate with Treasury;

• Information regarding curricula vitae, including memberships in professional societies, affiliation with standards bodies, any teaching positions held, or any publications associated with the individual;

• Travel preferences (individuals who serve on Treasury boards and committees only);

• Identification number assigned by computer in cases where created in order to retrieve information.

RECORD SOURCE CATEGORIES:

Information contained in these systems is obtained from affected individuals, organizations, and facilities; public source data; other government agencies; and information already in other Treasury records systems.

ROUTINE USES OF RECORDS MAINTAINED IN THE SYSTEM, INCLUDING CATEGORIES OF USERS AND PURPOSES OF SUCH USES:

In addition to those disclosures generally permitted under 5 U.S.C. 552a (b) of the Privacy Act, all or a portion of the records or information contained in these systems may be disclosed outside Treasury as a routine use pursuant to 5 U.S.C. 552a (b) (3), as follows:

1. To the Department of Justice (including United States Attorneys' Offices) or other Federal agencies conducting litigation or in proceedings before any court or adjudicative or administrative body, when it is relevant or necessary to the litigation and one of the following is a party to the litigation or has an interest in such litigation:

a. Treasury or any component thereof;

b. Any employee of Treasury in his/her official capacity;

c. Any employee of Treasury in his/her individual capacity where the Department of Justice or Treasury has agreed to represent the employee; or

d. The United States or any agency thereof.

2. To a congressional office in response to an inquiry made at the request of the individual to whom the record pertains.

3. To the National Archives and Records Administration or General Services Administration pursuant to records management inspections being conducted under the authority of 44 U.S.C. 2904 and 2906.

4. To an agency or organization for the purpose of performing audit or oversight operations as authorized by law, but only such information as is necessary and relevant to such audit or oversight function.

5. To appropriate agencies, entities, and persons when:

a. Treasury suspects or has confirmed that the security or confidentiality of information in the system of records has been compromised;

b. The disclosure made to such agencies, entities, and persons is reasonably necessary to assist in connection with Treasury's efforts to respond to the suspected or confirmed compromise and prevent, minimize, or remedy such harm.

6. To contractors and their agents, grantees, experts, consultants, fiscal agents, financial agents, and others performing or working on a contract, service, grant, cooperative agreement, or other assignment for Treasury, when necessary to accomplish an agency function related to the system of records. Individuals provided information under this routine use are subject to the same Privacy Act requirements and limitations on disclosure as are applicable to Treasury officers and employees.

7. To an appropriate Federal, State, Tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person authorizing the disclosure.

8. To sponsors, employers, contractors, facility operators, grantees, experts, fiscal agents, financial agents, and consultants, paid or non-paid, in connection with establishing an access account for an individual or maintaining appropriate points of contact and when necessary to accomplish a Treasury mission function or objective related to the system of records.

9. To other individuals in the same operational program supported by an information technology resource, where appropriate notice to the individual has been made that his or her contact information will be shared with other members of the same operational program in order to facilitate collaboration.

10. To Federal agencies, councils, and offices, such as the Office of Personnel Management, the Merit Systems Protection Board, the Office of Management and Budget, the Federal Labor Relations Authority, the Government Accountability Office, the Financial Stability Oversight Council, and the Equal Employment Opportunity Commission in the fulfillment of these agencies' official duties.

11. To international, Federal, State, local, Tribal, or private entities for the purpose of the regular exchange of business contact information in order to facilitate collaboration for official business.

12. To the news media and the public, with the approval of the Senior Agency Official for Privacy, or her designee, in consultation with counsel, when there exists a legitimate public interest in the disclosure of the information or when disclosure is necessary to preserve confidence in the integrity of Treasury or is necessary to demonstrate the accountability of Treasury's officers, employees, or individuals covered by the system, except to the extent it is determined that release of the specific information in the context of a particular case would constitute an unwarranted invasion of personal privacy.

13. To appropriate agencies, entities, and person when (1) the Department of the Treasury suspects or has confirmed that there has been a breach of the system of records; (2) the Department of the Treasury has determined that as a result of the suspected or confirmed breach there is a risk of harm to individuals, the Department of the Treasury (including its information systems, programs, and operations), the Federal Government, or national security; and (3) the disclosure made to such agencies, entities, and persons is reasonably necessary to assist in connection with the Department of the Treasury's efforts to respond to the suspected or confirmed breach or to prevent, minimize, or remedy such harm;

14. To another Federal agency or Federal entity, when the Department of the Treasury determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach;

POLICIES AND PRACTICES FOR STORAGE OF RECORDS:

Records in these systems are on paper and/or in digital or other electronic form. Digital and other electronic images are stored on a storage area network in a secured environment. Records, whether paper or electronic, may be stored in Departmental Offices or at the bureau or office level.

POLICIES AND PRACTICES FOR RETRIEVAL OF RECORDS:

Information may be retrieved, sorted, and/or searched by an identification number assigned by computer, facility, business affiliation, email address, name of the individual, or other data fields previously identified in this System of Records Notice.

POLICIES AND PRACTICES FOR RETENTION AND DISPOSAL OF RECORDS:

Records are securely retained and disposed of in accordance with the National Archives and Records Administration's General Records Schedule 12, item 2a. Files may be retained for up to three years depending on the record. For records that may be used in litigation, the files related to that litigation will be retained for three years after final court adjudication.

ADMINISTRATIVE, TECHNICAL, AND PHYSICAL SAFEGUARDS:

Information in these systems is safeguarded in accordance with applicable laws, rules, and policies, including Treasury Directive 85-01, Department of the Treasury Information Technology (IT) Security Program. Further, security protocols for these systems of records will meet multiple National Institute of Standards and Technology security standards from authentication to certification and authorization. Records in these systems of records will be maintained in a secure, password protected electronic system that will use security hardware and software to include: multiple firewalls, active intruder detection, and role-based access controls. Additional safeguards will vary by component and program. All records are protected from unauthorized access through appropriate administrative, physical, and technical safeguards. These safeguards include restricting access to authorized personnel who have a “need to know,” using locks, and password protection identification features. Treasury file areas are locked after normal duty hours and the facilities are protected by security personnel who monitor access to and egress from Treasury facilities.

RECORD ACCESS PROCEDURES:

See “Notification Procedures” below.

CONTESTING RECORD PROCEDURES:

See “Notification Procedures” below.

NOTIFICATION PROCEDURES:

Individuals seeking notification of and access to any record contained in these systems of records, or seeking to contest its content, may submit a request in writing, in accordance with Treasury's Privacy Act regulations (located at 31 CFR 1.26), to the Freedom of Information Act (FOIA) and Transparency Liaison, whose contact information can be found at https://home.treasury.gov/footer/freedom-of-information-act under “FOIA Requester Service Centers and FOIA Liaison.” If an individual believes more than one bureau maintains Privacy Act records concerning him or her, the individual may submit the request to the Office of Privacy, Transparency, and Records, FOIA and Transparency, Department of the Treasury, 1500 Pennsylvania Ave. NW, Washington, DC 20220.

No specific form is required, but a request must be written and:

• Be signed and either notarized or submitted under 28 U.S.C. 1746, a law that permits statements to be made under penalty of perjury as a substitute for notarization;

• State that the request is made pursuant to the FOIA and/or Privacy Act disclosure regulations;

• Include information that will enable the processing office to determine the fee category of the user;

• Be addressed to the bureau that maintains the record (in order for a request to be properly received by the Department, the request must be received in the appropriate bureau's disclosure office);

• Reasonably describe the records;

• Give the address where the determination letter is to be sent;

• State whether or not the requester wishes to inspect the records or have a copy made without first inspecting them; and

• Include a firm agreement from the requester to pay fees for search, duplication, or review, as appropriate. In the absence of a firm agreement to pay, the requester may submit a request for a waiver or reduction of fees, along with justification of how such a waiver request meets the criteria for a waiver or reduction of fees found in the FOIA statute at 5 U.S.C. 552(a)(4)(A)(iii).

EXEMPTIONS PROMULGATED FOR THE SYSTEM:

None.

HISTORY:

Notice of this system of records was last published in full in the Federal Register on November 7, 2016 (81 FR 78266) as the Department of the Treasury, Treasury-wide .017—Correspondence and Contact Information.

[FR Doc. 2023-24222 Filed 11-1-23; 8:45 am]

BILLING CODE 4810-AK-P